DEPARTMENT OF ENERGY

U.S. Energy Information Administration

Proposed Agency Information Collection

AGENCY: U.S. Energy Information Administration (EIA), Department of Energy (DOE).

ACTION: Agency Information Collection Activities: Proposed Information Collection; Notice and Request for Comments.

SUMMARY: The EIA is soliciting comments on the proposed reinstatement, and three-year approval to the Form GC-859, “Nuclear Fuel Data Survey” (previously designated as the Form RW-859, “Nuclear Fuel Data Survey”) that EIA is developing for submission to the Office of Management and Budget (OMB) pursuant to the Paperwork Reduction Act of 1995. The Nuclear Waste Policy Act of 1982 (42 U.S.C. 10101 et seq.) required that the DOE enter into Standard Contracts with all generators or owners of spent nuclear fuel and high-level radioactive waste of domestic origin in 1983. This data collection evolved from an Appendix to this Standard Contract. Appendix B to the Standard Contract required that spent nuclear fuel discharge, storage, and projection information be collected annually. The annual version of the Form RW-859 survey was collected for the survey years from 1983 through 1995. Due to budgetary constraints, the survey was collected periodically for survey years 1998 and 2002, covering multi-year periods. The survey containing data as of December 31, 2002 was collected during 2003 and is the most recent data on spent nuclear fuel discharges and storage available within DOE. Lack of funding resulted in the form being discontinued in 2009. With the transfer of certain functions between Offices of the DOE and with the need to collect data for other Offices within DOE, the data collection authorization is now under the auspices of the Office of the General Counsel (GC) and the form will be redesignated as the Form GC-859.

Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received by September 21, 2012. If you anticipate difficulty in submitting comments within that period, contact the person listed in ADDRESSES as soon as possible.

ADDRESSES: Send comments to Marta Gospodarczyk. To ensure receipt of the comments by the due date, submission by Fax (202-586-3045) or email (marta.gospodarczyk@eia.gov) is recommended. The mailing address is Office of Electricity, Coal, Nuclear, and Renewables Analysis, EI-34, Forrestal Building, U.S. Department of Energy, 1000 Independence Ave. SW., Washington, DC 20585. Alternatively, Ms. Gospodarczyk may be contacted by telephone at 202-586-0527.

FOR FURTHER INFORMATION CONTACT: Requests for additional information or copies of any forms and instructions should be directed to Ms. Gospodarczyk at the address listed above. Additionally, forms and instructions may be viewed at http://www.eia.gov/survey/#GC-859.

SUPPLEMENTARY INFORMATION: This information collection request contains:

(1) OMB No. 1901-0287;

(2) Information Collection Request Title: Form GC-859, “Nuclear Fuel Data Survey”;

(3) Type of Request: Reinstatement with changes of a previously approved collection for which approval has been discontinued;

(4a) Purpose:

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under Section 3507(a) of the Paperwork Reduction Act of 1995.

The Nuclear Waste Policy Act of 1982 (42 U.S.C. 10101 et seq.) required that the DOE enter into Standard Contracts with all generators or owners of spent nuclear fuel and high-level radioactive waste of domestic origin. Form GC-859 evolved from an appendix to this Standard Contract.

Appendix B to the Standard Contract, originally titled “Ten Year Discharge Forecast,” became the Form RW-859 “Nuclear Fuel Data Survey.” The Form RW-859 survey was collected annually for survey years from 1983 through 1995. It was again collected for survey years 1998 and 2002, covering a multi-year period. The Form RW-859 was last collected in 2003 and was discontinued on November 10, 2009. The survey containing data as of December 31, 2002 was the last collected and is the most recent data on nuclear fuel discharges and storage available within EIA. The EIA has collected the Form RW-859 survey for the DOE Office of Civilian Radioactive Waste Management (OCRWM). In 2009, the Obama Administration determined that all funding for OCRWM be eliminated from the Federal budget, leading to the dissolution of the OCRWM. Many of the activities previously performed by the OCRWM had to continue in lieu of these political developments. Activities were transferred to the Office of Standard Contract Management, which has been created within the Office of the General Counsel (GC). Thus, the form number was changed from the Form RW-859 to the Form GC-859.

Form RW-859 Nuclear Fuel Data Survey form has been used to collect information on nuclear fuel use and spent fuel discharges from all utilities that operate commercial nuclear reactors and from all others that possess irradiated fuel from commercial nuclear reactors. The data collection provides stakeholders with detailed information concerning the spent nuclear fuel generated by the respondents (commercial utility generators of spent nuclear fuel and other owners of spent nuclear fuel within the U.S.). The new Form GC-859 will represent a change from previous versions of the Nuclear Fuel Data Survey. Recommendations developed by the president's Blue Ribbon Commission on America's Nuclear Energy Future have resulted in a need for more detailed data than that collected in previous surveys in order that personnel from the DOE Offices of Nuclear Energy (NE) and Environmental Management (EM), the national laboratories, and other data users can meet their research obligations.

Please refer to the proposed forms and instructions for more information about the purpose, who must report, when to report, where to submit, the elements to be reported, detailed instructions, provisions for confidentiality, and uses (including possible non-statistical uses) of the information. For instructions on obtaining materials, see the FOR FURTHER INFORMATION CONTACT section.

(4b) Proposed Changes to Information Collection:

The current Form GC-859 redesign effort and associated changes has several fundamental goals and objectives:

—Maintain the fidelity of collection of the information required by stakeholders, by continuing to collect quality data on reactors, historical spent fuel discharges, projections of spent fuel discharges, pool capacities and inventories, and special fuel and non-fuel forms relevant to user needs;

—Simplify the process of data collection and validation, by enhancing the ability of respondents to provide data through electronic data transfer in any available format (spreadsheet, database, etc.);

The major changes to the Form GC-859 survey from the last data collection in 2003 include the following:

The EIA has modified the structure of the Form GC-859 survey into separate schedules for the collection of utility, reactor, fuel, storage facility, non-fuel, and greater than class C (GTCC) low-level radioactive waste data. The redesign increases the visibility of storage facilities as individual entities, clarifies the collection of data on special fuel forms and non-fuel components, updates historical cycle assembly data, and collects new data on GTCC low-level waste.

Instructions for responding to each schedule of the survey form, along with appropriate references and definitions, have been moved into the schedules. Instructions were previously detailed in an Appendix to the survey form. Appropriate data from the Standard Contract has also been included within the form schedules. The new form allows for multiple contact personnel, so that respondents may choose to submit reactor and storage facility data separately. Drop-down menus have been added throughout the form to aid the respondents. The Glossary has been revised and expanded. Respondents to this data collection are provided with data submitted on previous Nuclear Fuel Data surveys so that they may update historical data. The DOE last collected the survey containing data as of December 31, 2002. Current respondents will be provided with this 2002 survey data to update. Additional data from prior versions of the form will also be supplied where appropriate. Respondents will be allowed to modify, update, or correct historical data or supply complete historical data in any readily available format.

The consolidation of all fuel data (metal content, enrichment, discharge burnup, cycle numbers and dates, fuel vendor, lattice type, assembly status code, storage location, special fuel forms) in a single survey schedule ensures consistent, non-repetitive data. Data on special fuel forms (consolidated fuel, fuel in canisters, fuel rods, fuel pieces) now supplements the basic fuel data, rather than being collected in separate sections as in previous surveys. A major change to the spent fuel data is that respondents are no longer required to report assembly type codes for every discharged assembly. Previous surveys contained an Appendix of almost 300 different assembly codes from which the respondent had to choose, based on assembly manufacturer, design considerations, and characteristics. Respondents are now required to only report manufacturer and lattice (array) type, greatly reducing the time required to fill out this section.

The fuel section now includes a requirement to collect complete fuel cycle history for every discharged assembly. Previously collected fuel data included fresh fuel assembly insertions and spent fuel discharges, so much of this historical data is already available and will be provided to the respondents.

Data collection for pool storage and dry storage has been consolidated from two sections on the Form RW-859 survey to one on the Form GC-859 survey. Previous requirements to supply information on individual assemblies stored at all storage sites has been replaced by the addition of a column for storage site identifier in the fuel data section. A new requirement to report assemblies in multi-canister dry storage modules has been added.

Non-fuel components data collection has been moved to a separate schedule. Based on discussions with industry personnel and comments submitted on previous surveys, data will now be collected by storage location: Components that are an integral part of an assembly, components stored in a single-element canister or container, and components stored separate from an assembly and uncanistered in the storage pool. Data on non-fuel components integral to an assembly are being collected for the first time.

Another new addition to the Form GC-859 is a schedule for greater than class C (GTCC) low level radioactive waste (LLRW). This schedule will collect both packaged and projected inventory information for activated metals and process waste. This schedule is not mandatory, and only respondents who have readily available access to this data should report.

Approximately 20 questions, tables, or sections have been deleted from this version of the form. Data on reinserted fuel, canister closure, and shipments and transfers of discharged fuel have been removed in the new version of the survey. The revised form eliminates the collection of duplicative information.

A three-year clearance is being requested for this survey since no definitive plans have been made on when the next Form GC-859 survey will be collected. Respondents will be notified prior to the next data collection.

(5) Estimated Number of Survey Respondents: 138 Surveys are expected to be filed for approximately 138 facilities. These facilities include 104 operating nuclear reactors, 16 permanently shut down nuclear reactors, 8 storage facilities, and 10 research/test reactors. Respondents other than operating nuclear reactors are only required to respond to the sections of the survey applicable to them;

(6) Annual Estimated Number of Total Responses: Current plans call for the survey to be collected once every five years, so respondents will only file the Form GC-859 once over the three-year approval period, for an average of ⅓ of a response per year from each respondent. Dividing the numbers in (5) by 3, EIA estimates an average of 34.667 responses annually from operating nuclear reactors, 5.333 responses annually from permanently shut down nuclear reactors, 2.667 responses annually from storage facilities, and 3.333 responses annually from research/test stations. For the three-year approval period, the annual estimate is 46 responses;

(7) Estimated Number of Annual Burden Hours: 3106.7. The estimate by respondent category is 80 hours per response for operating nuclear reactors, 40 hours per response for permanently shut down nuclear reactors, and 20 hours per response for storage facilities and research/test reactors. The total of 3106.7 hours per year is obtained by multiplying the burden per response for each category by the corresponding annual responses in (6) and adding the burden estimates for each category.

(8) Annual Estimated Reporting and Recordkeeping Cost Burden: $0; EIA estimates that there are no additional costs to respondents associated with the burden hours.

Statutory Authority: Section 13(b) of the Federal Energy Administration Act of 1974, Pub. L. 93-275, codified at 15 U.S.C. 772(b); Section 302 of the Nuclear Waste Policy Act of 1982, codified at 42 U.S.C. 10101.

Issued in Washington, DC, on July 11, 2012.
Stephanie Brown,
Director, Office of Survey Development and Statistical Integration, U.S. Energy Information Administration.

[FR Doc. 2012-17876 Filed 7-20-12; 8:45 am]

BILLING CODE 6450-01-P